DEPARTMENT OF ENERGY

Federal Energy Regulatory Commission

[Project No. 2444-042]

Northern States Power Corporation; Notice Soliciting Scoping Comments

Take notice that the following hydroelectric application has been filed with the Commission and is available for public inspection.

a. Type of Application: Subsequent Minor License.

b. Project No.: 2444-042.

c. Date Filed: July 21, 2023.

d. Applicant: Northern States Power Company.

e. Name of Project: White River Hydroelectric Project (project).

f. Location: On the White River in Ashland and Bayfield Counties, Wisconsin.

g. Filed Pursuant to: Federal Power Act, 16 U.S.C. 791(a)-825(r).

h. Applicant Contact: Mr. Matthew Miller, Environmental Analyst, Northern States Power Company—Wisconsin, 1414 W Hamilton Avenue, P.O. Box 8, Eau Claire, WI 54702; Phone at (715) 737-1353, or email at matthew.j.miller@xcelenergy.com.

i. FERC Contact: Taconya D. Goar at (202) 502-8394, or Taconya.Goar@ferc.gov.

j. Deadline for Filing Scoping Comments: December 13, 2023.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: White River Hydroelectric Project P-2444-042.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. Project Description: The White River Project includes an earthen and concrete dam that includes: (1) a 400-foot-long north earthen embankment; (2) a concrete section that includes: (a) a north abutment; (b) a 20-foot-long intake structure equipped with a trashrack; (c) a 35-foot-high spillway with two 25-foot-long bays that each contain a Tainter gate; and (d) a south abutment; and (3) a 300-foot-long south earthen embankment. The dam creates an impoundment that has a surface area of 39.9 acres at a normal elevation of 711.6 feet National Geodetic Vertical Datum of 1929 (NGVD 29). From the impoundment, water flows through the intake structure to a 1,345-foot-long concrete pipe that conveys water to a steel surge tank and two 30-foot-long steel penstocks. The penstocks provide water to a 700-kilowatt (kW) turbine-generator and a 500-kW turbine-generator located in a powerhouse, for a total installed capacity of 1,200 kW. Water is discharged from the turbines to the White River. Electricity generated at the project is transmitted to the electric grid via a 220-foot-long, 2.4-kilovolt (kV) transmission line and a 2.4/69-kV step-up transformer. The average annual energy production of the White River Project from 2017 through 2022 was 4,927 megawatt-hours.

Project recreation facilities include: (1) a boat access site and canoe portage take-out site at the north embankment of the dam; (2) an approximately 2,260-foot-long canoe portage trail; (3) a canoe put-in site approximately 90 feet downstream of the powerhouse; and (4) a tailrace fishing area.

The current license requires Northern States Power to operate in a run-of-river mode and to maintain the impoundment at an elevation between 710.4 and 711.6 feet NGVD 29. The license also a minimum bypassed reach flow of 16 cubic feet per second (cfs) or inflow, whichever is less.

Northern States Power does not propose to add any new project facilities. However, Northern States Power proposes to decrease the amount of land and water enclosed by the project boundary from 136.4 to 52.7 acres.

Northern States Power proposes to continue operating the project in a run-of-river mode and maintaining the surface elevation of the impoundment between 710.4 and 711.6 feet NGVD 29. Northern States Power also proposes to: (1) continue releasing a minimum bypassed reach flow of 16 cfs or inflow, whichever is less; (2) develop an operation compliance monitoring plan; (3) conduct shoreline erosion surveys every ten years; (4) develop an invasive species monitoring plan; (5) pass woody debris from the impoundment to the bypassed reach; (6) replace recreational signage; (7) maintain project recreation facilities; (8) implement the State of Wisconsin's broad incidental take permits/authorizations for Wisconsin cave bats and wood turtles; (9) avoid vegetation management and construction activities within 660 feet of bald eagle nests during the nesting season; and (10) develop a historic properties management plan.

m. A copy of the application can be viewed on the Commission's website at https://www.ferc.gov using the “eLibrary” link. Enter the project's docket number excluding the last three digits in the docket number field to access the document (P-2444). For assistance, contact FERC Online Support.

You may also register at https://ferconline.ferc.gov/FERCOnline.aspx to be notified via email of new filings and issuances related to this or other pending projects. For assistance, please contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

n. Scoping Process: Pursuant to the National Environmental Policy Act (NEPA), Commission staff will prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

At this time, we do not anticipate holding on-site scoping meetings. Instead, we are soliciting written comments and suggestions on the preliminary list of issues and alternatives to be addressed in the NEPA document, as described in scoping document 1 (SD1), issued November 13, 2023.

Copies of the SD1 outlining the proposed project and subject areas to be addressed in the NEPA document were distributed to the parties on the Commission's mailing list and the applicant's distribution list. Copies of SD1 may be viewed on the web at http://www.ferc.gov using the “eLibrary” link (see item m above).

Dated: November 13, 2023.
Debbie-Anne A. Reese,
Deputy Secretary.

[FR Doc. 2023-25529 Filed 11-17-23; 8:45 am]

BILLING CODE 6717-01-P